FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 21, 2017.

A. Federal Reserve Bank of Kansas City (Dennis Denney, Assistant Vice President) 1 Memorial Drive, Kansas City, Missouri 64198-0001:

1. Trust B of the Gene Irvin Irrevocable Trust, dtd 10/19/04, individually and as part of the Irvin Family Group, and C. Kay Irvin, individually and as trustee, all of Adrian, Missouri; to retain voting shares of Adrian Bancshares, Inc., Adrian, Missouri, and thereby retain shares of Adrian Bank, Adrian, Missouri. Additionally, Lecia Irvin, Lori Haskins, and Paul Haskins, all of Adrian, Missouri; to join the Irvin Family Group which, acting in concert, controls voting shares of Adrian Bancshares.

Board of Governors of the Federal Reserve System, October 30, 2017.
Ann E. Misback,
Secretary of the Board.

[FR Doc. 2017-23914 Filed 11-2-17; 8:45 am]

BILLING CODE 6210-01-P